DEPARTMENT OF TRANSPORTATION

National Highway Traffic Safety Administration

49 CFR Part 572

[Docket No. NHTSA-2010-0146]

RIN 2127-AK64

Anthropomorphic Test Devices; Hybrid III Test Dummy, ES-2re Side Impact Crash Test Dummy

AGENCY: National Highway Traffic Safety Administration (NHTSA), Department of Transportation.

ACTION: Final rule.

SUMMARY: This document corrects or makes minor changes to some of the drawings incorporated by reference into NHTSA regulations by a final rule published on June 16, 2008, concerning a 50th percentile adult male side crash test dummy called the “ES-2re” test dummy. The corrections and adjustments to the drawings respond to requests from test dummy manufacturers First Technology Safety Systems (FTSS) and Denton ATD (Denton). This final rule also corrects dimensional errors in a figure which depicts the pendulum used in the neck qualification tests of several of the crash test dummies, including the Hybrid III and ES-2re test dummies.

DATES: The effective date of this final rule is November 29, 2011. The incorporation by reference of certain publications listed in the regulations is approved by the Director of the Federal Register as of November 29, 2011.

Petitions for reconsideration: Petitions for reconsideration of this final rule must be received not later than July 18, 2011.

ADDRESSES: Petitions for reconsideration of this final rule must refer to the docket and notice number set forth above and be submitted to the Administrator, National Highway Traffic Safety Administration, 1200 New Jersey Avenue, SE., Washington, DC 20590. (A copy of the petition will be placed in the docket.)

Privacy Act: Anyone is able to search the electronic form of all submissions received into any of our dockets by the name of the individual submitting the comment (or signing the comment, if submitted on behalf of an association, business, labor union, etc.). A copy of the petition will be placed in the docket. You may review DOT's complete Privacy Act Statement in the Federal Register published on April 11, 2000 (Volume 65, Number 70; Pages 19477-78).

FOR FURTHER INFORMATION CONTACT: For non-legal issues, you may call Peter Martin, NHTSA Office of Crashworthiness Standards (telephone 202-366-5668) (fax 202-493-2990). For legal issues, you may call Deirdre Fujita, NHTSA Office of Chief Counsel (telephone 202-366-2992) (fax 202-366-3820). The mailing address for these officials is the National Highway Traffic Safety Administration, 1200 New Jersey Avenue, SE., Washington, DC 20590.

SUPPLEMENTARY INFORMATION:

I. Background

NHTSA published a final rule on June 16, 2008 (73 FR 33903, Docket No. NHTSA-08-0111) that responded to various petitions for reconsideration of a previous final rule ¹ incorporating a mid-size adult male crash test dummy, called the “ES-2re” test dummy, into 49 CFR part 572, Subpart U. The ES-2re is used in an upgraded Federal Motor Vehicle Safety Standard No. 214, “Side impact protection,” and in the agency's New Car Assessment Program. The June 16, 2008 final rule incorporated by reference a drawing package, parts list, and user's manual, all dated February 2008.

¹ That final rule adopting the ES-2re into 49 CFR part 572 was published December 14, 2006 (71 FR 75303, Docket No. NHTSA-04-25441).

After publication of the June 16, 2008 final rule, NHTSA received requests from dummy manufacturers FTSS and Denton to correct errors in or make minor changes to the ES-2re drawing package. Many of these requested changes were wholly corrective, while others, although minor, were more substantive and notice of such changes appeared beneficial. Rather than respond to the requested changes piecemeal, the agency decided to address all the requested changes in a rulemaking proceeding that commenced with a notice of proposed rulemaking (NPRM) published February 5, 2010 (75 FR 5931; Docket No. NHTSA-2009-0194).

The February 5, 2010 NPRM provided a detailed discussion of the proposed changes to the ES-2re drawing package and parts list. In addition, the NPRM proposed to clarify the inclusion of load sensors and to correct dimensional errors in Figure 22 of 49 CFR part 572, which is a figure illustrating the pendulum used in the neck qualification test for the ES-2re and other adult crash test dummies (e.g., the Hybrid III 50th percentile adult male).

NHTSA received no comments on the NPRM. We are adopting the changes proposed in the NPRM for the reasons discussed in that document.

II. Changes in Response to FTSS

NHTSA is making the following changes to the drawing package and parts list for the ES-2re dummy in response to FTSS. In the NPRM, NHTSA provided a detailed discussion of the changes requested by FTSS and our rationale underlying our tentative decision to grant or deny each request. In this final rule, the agency is adopting these amendments for the reasons discussed in the NPRM.

1. Drawing 175-1011, Top Plate UNLC Blank. NHTSA is removing the Ø symbol from the dimensions MØ5.0, MØ6.0, MØ6, and MØ2.5.

2. Drawing 175-3502, Pivot Stop Plate, Left. Note #4 is fixed by replacing RH with LH.

3. Drawing 175-6006, Pubic Symphysis Structural Replacement. The Part Mark located at the center of the part is removed from the drawing.

4. Drawing 175-6012, Hip Pivot Pin. Dimension “16.994 +0.000/− 0.011” is changed to “16.990 +0.000/−0.011.”

5. Drawing 175-6010, Iliac Wing Assembly, Left. Drawing dimension “17.0556” is changed to (17), a reference dimension. Dimension “R0.5” is added. Dimension “Ø20.03 ± 0.05” is changed to “Ø20.05 ± 0.05.” The material reference block is amended to specify the material to be “PU Resin” (polyurethane).

6. Drawing 175-6063, Femur Bearing Plate, Left. The “48.3000 ± 0.0001” dimension is changed to “48.3.” The 17.5000 dimension for hole depth in zone C-2 is changed to (17.5) to indicate a reference. Zone D-1 is amended by eliminating an extra “R” in the R23.5 dimension.

7. Drawing 175-6068, Femur Bearing Plate, Right. We are removing the parenthesis from around dimension “(48.3).”

8. Drawing 175-6002, Iliac Wing Assembly, Right. We are changing drawing dimension “Ø20.03” to “Ø20.05 ± 0.05.” We also add dimension “R0.5.”

9. Drawing 175-2003, Plate, Neck Head & Torso Interface. Section C-C of the drawing showing the thickness of the Helicoil is changed to M6 x 1 x 4.5. Item 1 on the parts list is changed to part number 5000729 Helicoil M6 x 1 x 4.5. We also add dimension “4X R3.2 to the Surface” on Detail Z.

10. Drawing 175-3011, CAM Buffer Pad. Drawing dimensions Ø5.0, 90.0, 5.0, and 21.2 ± 0.2 are replaced with dimensions Ø5, 90, 5, and 21.2 ± 0.3, respectively.

11. Drawing 175-7058, Friction Plate Retaining Stud. The Datum A tolerance of 0.0003 is changed to 0.003.

12. Drawing 175-7085-1, Knee Flesh, Left. The drawing is amended to add a definition for “A” to match drawing 175-7085-2, which specifies that “A = 1¾.”

13. Drawing 175-7090-1, Thigh Molded, Left. Drawing dimensions (2x ØØ24) is changed to (2x Ø24) and (2x Ø14) is changed to (2x14).

14. Drawing 175-9013, Bearing. Revision record B is corrected to read “ADDED REF. TO MATERIAL SPECIFICATION.”

15. Drawing 175-9014, Pin Machined. Revision indicator for revision “B” (REV B) is added next to the material reference.

16. Drawing SA572-571-1, Lower Neck Load Cell Assembly. The specification for load cell weight is made a reference. The drawing is also amended to indicate that the reference weight specification applies to item 1 (the lower neck load cell) only, and not the entire assembly.

III. Changes in Response to Denton

NHTSA is making the following changes to the drawing package and parts list for the ES-2re dummy in response to Denton. The changes and reasons underlying these changes are fully discussed in the NPRM.

1. Drawing No. 175-1001, Skull Machined. The distance between the upper 2 holes is changed from 71.2 mm apart to 71.1 mm apart.

2. Drawing No. 175-4006, Rib Rail Assembly. We are amending the drawing to add an option to the drawing that allows use of a button head cap screw (BHCS) BHCS M3 x .5 x 8.

3. Drawing No. 175-4012, V-rail. The drawing is changed such that the tapped holes are specified as optional.

IV. Corrections to Figure 22

This final rule corrects several dimensional values in Figure 22, “Pendulum Specifications,” of 49 CFR part 572. This pendulum is used in neck qualification tests for the ES-2re as well as other adult crash test dummies, including the Hybrid III 50th percentile male and 5th percentile female frontal crash test dummies, the SID-IIsD 5th percentile female side impact dummy, and the SID and SID/HIII side impact crash test dummies. The dimensional corrections are listed below and shown in Figure 1 of this preamble, below:

• The 8.28 millimeter (mm) (32.6 inch (in)) dimension is changed to 828 mm (32.6 in);

• The 4.8 mm (188 in) dimension is changed to 4.8 mm (0.188 in);

• The 198.6 mm (7.75 in) dimension is changed to 196.8 mm (7.75 in).

BILLING CODE 4910-59-P

BILLING CODE 4910-59-C

V. Rulemaking Analyses and Notices

Executive Order (E.O.) 12866 (Regulatory Planning and Review), E.O. 13563, and DOT Regulatory Policies and Procedures

This rulemaking action is not considered a significant regulatory action under E.O. 12866, E.O. 13563, or DOT's regulatory policies and procedures (44 FR 11034, February 26, 1979). This rule only corrects or makes slight changes to some of the drawings of the ES-2re test dummy and to the pendulum used in the neck qualification tests. These changes will not affect the cost of any of the part 572 test dummies. Because the economic impacts of this final rule are so minimal, no further regulatory evaluation is necessary.

Regulatory Flexibility Act

Pursuant to the Regulatory Flexibility Act (5 U.S.C. 601 et seq., as amended by the Small Business Regulatory Enforcement Fairness Act (SBREFA) of 1996), whenever an agency is required to publish a proposed or final rule, it must prepare and make available for public comment a regulatory flexibility analysis that describes the effect of the rule on small entities (i.e., small businesses, small organizations, and small governmental jurisdictions), unless the head of the agency certifies the rule will not have a significant economic impact on a substantial number of small entities. The Small Business Administration's regulations at 13 CFR part 121 define a small business, in part, as a business entity “which operates primarily within the United States.” (13 CFR 121.105(a)).

We have considered the effects of this rulemaking under the Regulatory Flexibility Act. I hereby certify that the rulemaking action will not have a significant economic impact on a substantial number of small entities. This action will not have a significant economic impact on a substantial number of small entities because correcting or making minor changes to the drawings and the specification for the pendulum does not impose any requirements on anyone. NHTSA does not require anyone to manufacture or use the test dummies.

National Environmental Policy Act

NHTSA has analyzed this final rule for the purposes of the National Environmental Policy Act and determined that it will not have any significant impact on the quality of the human environment.

Executive Order 13132 (Federalism)

NHTSA has examined today's final rule pursuant to Executive Order 13132 (64 FR 43255, August 10, 1999) and concluded that no additional consultation with States, local governments or their representatives is mandated beyond the rulemaking process. The agency has concluded that the final rule does not have federalism implications because the rule does not have “substantial direct effects on the States, on the relationship between the national government and the States, or on the distribution of power and responsibilities among the various levels of government.” This rule will not impose any requirements on anyone. Businesses will be affected only if they choose to manufacture or test with the dummy.

Further, no consultation is needed to discuss the preemptive effect of today's final rule. NHTSA's safety standards can have preemptive effect in two ways. This final rule amends 49 CFR part 572 and is not a safety standard.² This part 572 final rule does not impose any requirements on anyone.

² With respect to the safety standards, the National Traffic and Motor Vehicle Safety Act contains an express preemptive provision: “When a motor vehicle safety standard is in effect under this chapter, a State or a political subdivision of a State may prescribe or continue in effect a standard applicable to the same aspect of performance of a motor vehicle or motor vehicle equipment only if the standard is identical to the standard prescribed under this chapter.” 49 U.S.C. 30103(b)(1). Second, the Supreme Court has recognized the possibility of implied preemption: State requirements imposed on motor vehicle manufacturers, including sanctions imposed by State tort law, can stand as an obstacle to the accomplishment and execution of a NHTSA safety standard. When such a conflict exists, the Supremacy Clause of the Constitution makes the State requirements unenforceable. See Geier v. American Honda Motor Co., 529 U.S. 861 (2000).

Civil Justice Reform

With respect to the review of the promulgation of a new regulation, section 3(b) of Executive Order 12988, “Civil Justice Reform” (61 FR 4729, February 7, 1996) requires that Executive agencies make every reasonable effort to ensure that the regulation: (1) Clearly specifies the preemptive effect; (2) clearly specifies the effect on existing Federal law or regulation; (3) provides a clear legal standard for affected conduct, while promoting simplification and burden reduction; (4) clearly specifies the retroactive effect, if any; (5) adequately defines key terms; and (6) addresses other important issues affecting clarity and general draftsmanship under any guidelines issued by the Attorney General. This document is consistent with that requirement.

Pursuant to this Order, NHTSA notes as follows.

The issue of preemption is discussed above in connection with E.O. 13132. NHTSA notes further that there is no requirement that individuals submit a petition for reconsideration or pursue other administrative proceeding before they may file suit in court.

Paperwork Reduction Act

Under the Paperwork Reduction Act of 1995, a person is not required to respond to a collection of information by a Federal agency unless the collection displays a valid control number from the Office of Management and Budget (OMB). This rule will not have any requirements that are considered to be information collection requirements as defined by the OMB in 5 CFR part 1320.

National Technology Transfer and Advancement Act

Section 12(d) of the National Technology Transfer and Advancement Act of 1995 (NTTAA), Public Law 104-113, section 12(d) (15 U.S.C. 272) directs NHTSA to use voluntary consensus standards in its regulatory activities unless doing so would be inconsistent with applicable law or otherwise impractical. Voluntary consensus standards are technical standards (e.g., materials specifications, test methods, sampling procedures, and business practices) that are developed or adopted by voluntary consensus standards bodies. The NTTAA directs NHTSA to provide Congress, through OMB, explanations when the agency decides not to use available and applicable voluntary consensus standards. There are no voluntary consensus standards relevant to this final rule.

Unfunded Mandates Reform Act

Section 202 of the Unfunded Mandates Reform Act of 1995 (UMRA), Public Law 104-4, requires Federal agencies to prepare a written assessment of the costs, benefits, and other effects of proposed or final rules that include a Federal mandate likely to result in the expenditure by State, local, or Tribal governments, in the aggregate, or by the private sector, of more than $100 million annually (adjusted for inflation with base year of 1995). Before promulgating a NHTSA rule for which a written statement is needed, section 205 of the UMRA generally requires the agency to identify and consider a reasonable number of regulatory alternatives and adopt the least costly, most cost-effective, or least burdensome alternative that achieves the objectives of the rule.

This final rule does not impose any unfunded mandates under the UMRA. This rule does not meet the definition of a Federal mandate because it does not impose requirements on anyone. It amends 49 CFR part 572 by correcting or making minor changes to some of the drawings for a test dummy that the agency uses and for a pendulum used to calibrate test dummies. This rule affects only those businesses that choose to manufacture or test with the dummy, and being corrective in nature, only affects them in a small way. It does not result in costs of $100 million or more to either State, local, or Tribal governments, in the aggregate, or to the private sector.

Plain Language

Executive Order 12866 requires each agency to write all rules in plain language. Application of the principles of plain language includes consideration of the following questions:

—Has the agency organized the material to suit the public's needs?

—Are the requirements in the rule clearly stated?

—Does the rule contain technical language or jargon that is not clear?

—Would a different format (grouping and order of sections, use of headings, paragraphing) make the rule easier to understand?

—Would more (but shorter) sections be better?

—Could the agency improve clarity by adding tables, lists, or diagrams?

—What else could the agency do to make this rulemaking easier to understand?

If you have any responses to these questions, please send them to NHTSA.

Regulation Identifier Number

The Department of Transportation assigns a regulation identifier number (RIN) to each regulatory action listed in the Unified Agenda of Federal Regulations. The Regulatory Information Service Center publishes the Unified Agenda in April and October of each year. You may use the RIN contained in the heading at the beginning of this document to find this action in the Unified Agenda.

List of Subjects in 49 CFR Part 572

Motor vehicle safety, Incorporation by reference.

In consideration of the foregoing, NHTSA amends 49 CFR part 572 as follows:

PART 572—ANTHROPOMORPHIC TEST DEVICES

1. The authority citation for part 572 continues to read as follows:

Authority: 49 U.S.C. 322, 30111, 30115, 30117 and 30166; delegation of authority at 49 CFR 1.50.

Subpart E—Hybrid III Test Dummy

2. In § 572.33(c)(3), Figure 22 is revised to read as follows:

§ 572.33 Neck.

* * * * *

(c) * * *

(3) * * *

BILLING CODE 4910-59-P

BILLING CODE 4910-59-C

* * * * *

Subpart U—ES-2re Side Impact Crash Test Dummy, 50th Percentile Adult Male

3. Section 572.180 is amended by revising paragraphs (a)(1)and (a)(2), and paragraph (c)(1), to read as follows:

§ 572.180 Incorporated materials.

(a) * * *

(1) A parts/drawing list entitled, “Parts/Drawings List, Part 572 Subpart U, Eurosid 2 with Rib Extensions (ES2re), September 2009,” incorporated by reference in § 572.181.

(2) A drawings and inspection package entitled “Parts List and Drawings, Part 572 Subpart U, Eurosid 2 with Rib Extensions (ES-2re, Alpha Version), September 2009,” consisting of:

(i) Drawing No. 175-0000, ES-2re Dummy Assembly, incorporated by reference, see §§ 572.181, 575.182, 572.184;

(ii) Drawing No. 175-1000, Head Assembly, incorporated by reference in §§ 572.181 and 572.182;

(iii) Drawing No. 175-2000, Neck Assembly Test/Cert, incorporated by reference in §§ 572.181 and 572.183;

(iv) Drawing No. 175-3000, Shoulder Assembly, incorporated by reference in §§ 572.181 and 572.184;

(v) Drawing No. 175-3500, Arm Assembly, Left, incorporated by reference in §§ 572.181 and 572.185;

(vi) Drawing No. 175-3800, Arm Assembly, Right, incorporated by reference in §§ 572.181, and 572.185;

(vii) Drawing No. 175-4000, Thorax Assembly with Rib Extensions, incorporated by reference in §§ 572.181 and 572.185;

(viii) Drawing No. 175-5000, Abdominal Assembly, incorporated by reference in §§ 572.181 and 572.186;

(ix) Drawing No. 175-5500, Lumbar Spine Assembly, incorporated by reference in §§ 572.181 and 572.187;

(x) Drawing No. 175-6000, Pelvis Assembly, incorporated by reference in §§ 572.181 and 572.188;

(xi) Drawing No. 175-7000-1, Leg Assembly—left incorporated by reference in § 572.181;

(xii) Drawing No. 175-7000-2, Leg Assembly—right incorporated by reference in § 572.181;

(xiii) Drawing No. 175-8000, Neoprene Body Suit, incorporated by reference in §§ 572.181 and 572.185; and,

(xiv) Drawing No. 175-9000, Headform Assembly, incorporated by reference in §§ 572.181, 572.183, 572.187;

* * * * *

(c) * * *

(1) The Parts/Drawings List, Part 572 Subpart U, Eurosid 2 with Rib Extensions (ES2re) referred to in paragraph (a)(1) of this section, the Parts List and Drawings, Part 572 Subpart U, Eurosid 2 with Rib Extensions (ES-2re, Alpha Version) referred to in paragraph (a)(2) of this section, and the PADI document referred to in paragraph (a)(3) of this section, are available in electronic format through Regulations.gov and in paper format from Leet-Melbrook, Division of New RT, 18810 Woodfield Road, Gaithersburg, MD 20879, telephone (301) 670-0090.

* * * * *

4. Section 572.181 is amended by revising paragraphs (a), (b), and (c) to read as follows:

§ 572.181 General description.

(a) The ES-2re Side Impact Crash Test Dummy, 50th Percentile Adult Male, is defined by:

(1) The drawings and specifications contained in the “Parts List and Drawings, Part 572 Subpart U, Eurosid 2 with Rib Extensions (ES-2re, Alpha Version), September 2009,” (incorporated by reference, see § 572.180), which includes the technical drawings and specifications described in Drawing 175-0000, the titles of which are listed in Table A;

Table A
Component assembly | Drawing No.
Head Assembly | 175-1000
Neck Assembly Test/Cert | 175-2000
Neck Bracket Including Lifting Eyebolt | 175-2500
Shoulder Assembly | 175-3000
Arm Assembly-Left | 175-3500
Arm Assembly-Right | 175-3800
Thorax Assembly with Rib Extensions | 175-4000
Abdominal Assembly | 175-5000
Lumbar Spine Assembly | 175-5500
Pelvis Assembly | 175-6000
Leg Assembly, Left | 175-7000-1
Leg Assembly, Right | 175-7000-2
Neoprene Body Suit | 175-8000

(2) “Parts/Drawings List, Part 572 Subpart U, Eurosid 2 with Rib Extensions (ES2re), September 2009,” containing 9 pages, incorporated by reference, see § 572.180,

(3) A listing of available transducers-crash test sensors for the ES-2re Crash Test Dummy is shown in drawing 175-0000 sheet 4 of 6, dated February 2008, incorporated by reference, see § 572.180,

(4) Procedures for Assembly, Disassembly and Inspection (PADI) of the ES-2re Side Impact Crash Test Dummy, February 2008, incorporated by reference, see § 572.180,

(5) Sign convention for signal outputs reference document SAE J1733 Information Report, titled “Sign Convention for Vehicle Crash Testing” dated December 1994, incorporated by reference, see § 572.180.

(b) Exterior dimensions of ES-2re test dummy are shown in drawing 175-0000 sheet 3 of 6, dated February 2008, incorporated by reference, see § 572.180.

(c) Weights of body segments (head, neck, upper and lower torso, arms and upper and lower segments) and the center of gravity location of the head are shown in drawing 175-0000 sheet 2 of 6, dated February 2008, incorporated by reference, see § 572.180.

* * * * *

Issued: May 24, 2011.
David L. Strickland,
Administrator.

[FR Doc. 2011-13413 Filed 6-1-11; 8:45 am]

BILLING CODE 4910-59-P